LIBRARY OF CONGRESS

U.S. Copyright Office

37 CFR Part 210

[Docket No. 2019-5]

Music Modernization Act Implementing Regulations for the Blanket License for Digital Uses and Mechanical Licensing Collective: Extension of Comment Period

AGENCY: U.S. Copyright Office, Library of Congress.

ACTION: Notification of inquiry; extension of comment period.

SUMMARY: The U.S. Copyright Office is extending the deadline for the submission of written reply comments in response to its September 24, 2019 notification of inquiry regarding implementation regulations for the Musical Works Modernization Act, title I of the Orrin G. Hatch-Bob Goodlatte Music Modernization Act.

DATES: The reply comment period for the notification of inquiry published September 24, 2019, at 84 FR 49966, is extended. Written reply comments must be received no later than 5:00 p.m. Eastern Time on December 20, 2019.

ADDRESSES: For reasons of government efficiency, the Copyright Office is using the regulations.gov system for the submission and posting of public comments in this proceeding. All comments are therefore to be submitted electronically through regulations.gov. Specific instructions for submitting comments are available on the Copyright Office's website at https://www.copyright.gov/rulemaking/mma-implementation/. If electronic submission of comments is not feasible due to lack of access to a computer and/or the internet, please contact the Office using the contact information below for special instructions.

FOR FURTHER INFORMATION CONTACT: Regan A. Smith, General Counsel and Associate Register of Copyrights, by email at regans@copyright.gov, Anna Chauvet, Associate General Counsel, by email at achau@copyright.gov, or Jason E. Sloan, Assistant General Counsel, by email at jslo@copyright.gov. Each can be contacted by telephone by calling (202) 707-8350.

SUPPLEMENTARY INFORMATION: On September 24, 2019, the U.S. Copyright Office issued a notification of inquiry (“NOI”) regarding implementation regulations for the Musical Works Modernization Act, title I of the Orrin G. Hatch-Bob Goodlatte Music Modernization Act (“MMA”). 84 FR 49966 (Sept. 24, 2019). The Office solicited public comments on a broad range of subjects concerning the administration of the new blanket compulsory license for digital uses of musical works that was created by the MMA, including regulations regarding notices of license, notices of nonblanket activity, usage reports and adjustments, information to be included in the mechanical licensing collective's database, database usability, interoperability, and usage restrictions, and the handling of confidential information.

To ensure that members of the public have sufficient time to respond, and to ensure that the Office has the benefit of a complete record, the Office is extending the deadline for the submission of written reply comments to no later than 5:00 p.m. Eastern Time on December 20, 2019.

Dated: November 22, 2019.
Regan A. Smith,
General Counsel and Associate Register of Copyrights.

[FR Doc. 2019-25805 Filed 11-27-19; 8:45 am]

BILLING CODE 1410-30-P